ENVIRONMENTAL PROTECTION AGENCY

40 CFR Part 52

[IL218-01b, FRL-7635-6]

Approval and Promulgation of Air Quality Implementation Plans; Illinois; Definition of Volatile Organic Material and Volatile Organic Compound

AGENCY: Environmental Protection Agency (EPA).

ACTION: Proposed rule.

SUMMARY: The EPA is proposing to approve Illinois' October 31, 2003 request to revise the definition for volatile organic material (VOM) and volatile organic compound (VOC) to incorporate exemptions for several nonreactive compounds from the definition of VOM and VOC and thereby, from regulation as ozone precursors. These requested state implementation plan (SIP) revisions were made in response to, and consistent with, EPA's action to add these chemical compounds to the list of chemicals that are exempted from the definition of VOC. In the Final Rules section of this Federal Register, EPA is approving the state's SIP revision, as a direct final rule without prior proposal because the Agency views this as a noncontroversial revision and anticipates no adverse comments. A detailed rationale for the approval is set forth in the direct final rule. If EPA receives no adverse comments in response to that direct final rule, EPA plans to take no further action on this proposed rule. If EPA receives significant adverse comments, in writing, which EPA has not addressed, EPA will withdraw the direct final rule and address all public comments received in a subsequent final rule based on this proposed rule. The EPA will not institute a second comment period on this document.

DATES: EPA must receive written comments on or before April 22, 2004.

ADDRESSES: Send written comments to:

J. Elmer Bortzer, Acting Chief, Air Programs Branch, (AR-18J), U.S. Environmental Protection Agency, Region 5, 77 West Jackson Boulevard, Chicago, Illinois 60604.

Comments may also be submitted electronically or through hand delivery/courier, please follow the detailed instructions described in part(I)(B)(1)(i) through (iii) of the Supplementary Information section of the direct final rule published in the rules section of this Federal Register.

You may inspect copies of the documents relevant to this action during normal business hours at the following location:

Criteria Pollutant Section, Air Programs Branch, (AR-18J), U.S. Environmental Protection Agency, Region 5, 77 West Jackson Boulevard, Chicago, Illinois 60604.

Please contact Kathleen D'Agostino at (312) 886-1767 before visiting the Region 5 office.

FOR FURTHER INFORMATION CONTACT: Kathleen D'Agostino, Environmental Engineer, Criteria Pollutant Section, Air Programs Branch (AR-18J), U.S. Environmental Protection Agency, Region 5, 77 West Jackson Boulevard, Chicago, Illinois 60604, (312) 886-1767. dagostino.kathleen@epa.gov.

SUPPLEMENTARY INFORMATION:

Where Can I Find More Information About This Proposal And The Corresponding Direct Final Rule?

For additional information see the direct final rule published in the rules section of this Federal Register.

Dated: March 1, 2004.
Jo Lynn Traub,
Acting Regional Administrator, Region 5.

[FR Doc. 04-6425 Filed 3-22-04; 8:45 am]

BILLING CODE 6560-50-P